DEPARTMENT OF COMMERCE

National Oceanic and Atmospheric Administration

Pacific Fishery Management Council; Public Meeting

AGENCY: National Marine Fisheries Service (NMFS), National Oceanic and Atmospheric Administration (NOAA), Commerce.

ACTION: Notice of public meeting.

SUMMARY: The panel to review assessment methods for data-moderate stocks will hold a work session that is open to the public.

DATES: The Review of Assessment Methods for Data-Moderate Stocks will be held beginning at 8:30 a.m., Tuesday, June 26, 2012 and end at 5 p.m. or as necessary to complete business for the day. The Panel will reconvene on Wednesday, June 27 and will continue through Friday, June 29, 2012 beginning at 8:30 a.m. and ending at 5 p.m. each day, or as necessary to complete business. The Panel will adjourn on Friday, June 29, 2012.

ADDRESSES: The Review of Assessment Methods for Data-Moderate Stocks will be held at the National Marine Fisheries Service's Alaska Fisheries Science Center, 7600 Sand Point Way NE., Building 4, Traynor Seminar Room, Seattle, WA 98115; telephone: (206) 526-4000.

Council address: Pacific Fishery Management Council (Pacific Council), 7700 NE Ambassador Place, Suite 101, Portland, OR 97220-1384.

FOR FURTHER INFORMATION CONTACT: Ms. Stacey Miller, NMFS Northwest Fisheries Science Center; telephone: (541) 961-8475; or Mr. John DeVore, Pacific Fishery Management Council; telephone: (503) 820-2280.

SUPPLEMENTARY INFORMATION: The objectives of the assessment methods for data-moderate stocks review meeting are (1) evaluate inclusion of trend information into simple assessment methodologies and validate model performance by providing examples for assessed stocks or operating models for which the assumptions of the simpler models are not met; and (2) provide a list of endorsed methods for use on data-moderate stocks in Pacific Fishery Management Council's Groundfish Fishery Management Plan. This workshop will also provide an opportunity to refine methods used for category 3 stocks, and review progress on evaluating methods for determining uncertainty (σ) for each of three categories of stock assessment uncertainty used by the Council. It is anticipated that reviewers will provide endorsement of specific data-moderate methodologies so that a number of candidate category 2 stock assessments using simple assessment models can be conducted and reviewed during the 2013 stock assessment cycle for use in the 2015-16 management cycle.

No management actions will be decided by the Panel. The Panel's role will be development of recommendations and reports for consideration by the Pacific Council at its September meeting in Boise, ID.

Although non-emergency issues not contained in the meeting agenda may come before the Panel participants for discussion, those issues may not be the subject of formal Review Panel action during this meeting. Panel action will be restricted to those issues specifically listed in this notice and any issues arising after publication of this notice that require emergency action under Section 305(c) of the Magnuson-Stevens Fishery Conservation and Management Act, provided the public has been notified of the Panel participants' intent to take final action to address the emergency.

Special Accommodations

This meeting is physically accessible to people with disabilities. Requests for sign language interpretation or other auxiliary aids should be directed to Mr. Kris Kleinschmidt at (503) 820-2280 at least 5 days prior to the meeting date.

Dated: June 1, 2012.
Tracey L. Thompson,
Acting Director, Office of Sustainable Fisheries, National Marine Fisheries Service.

[FR Doc. 2012-13695 Filed 6-5-12; 8:45 am]

BILLING CODE 3510-22-P